NATIONAL AERONAUTICS AND SPACE ADMINISTRATION

[Notice (08-069)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: Robert M. Padilla, Patent Counsel, Ames Research Center, Code 202A-4, Moffett Field, CA 94035-1000; telephone (650) 604-5104; fax (650) 604-2767.

NASA Case No. ARC-15977-1: Artificial Immune System Approach For Airborne Vehicle Maneuvering;

NASA Case No. ARC 16135-1: Efficiency Solar Cell Using Nano-Sculpted Substrate.

Dated: October 3, 2008.
Michael C. Wholley,
General Counsel.

[FR Doc. E8-24057 Filed 10-8-08; 8:45 am]

BILLING CODE 7510-13-P